DEPARTMENT OF THE INTERIOR

Fish and Wildlife Service

Endangered and Threatened Wildlife and Plants: Notice of Issuance of Permits for Incidental Take of Endangered (or Threatened) Species for Fiscal Year 2003 in the Northeast Region

AGENCY: Fish and Wildlife Service, Interior.

ACTION: Notice of issuance of incidental take permit for endangered species.

SUMMARY: On November 29, 2002, a notice was published in the Federal Register (67 FR 71192), that an application had been filed with the U.S. Fish and Wildlife Service (Service) by Snowshoe Mountain Resort, for a permit to incidentally take, pursuant to section 10(a)(1)(B) of the Endangered Species Act (Act) of 1973 (16 U.S.C. 1539), as amended, the West Virginia Northern Flying Squirrel (Glaucomys sabrinus fuscus) on the proposed 51-acre Camp Wilderness Development pursuant to the terms of the Habitat Conservation Plan for the West Virginia Northern Flying Squirrel at the Proposed Camp Wilderness Development, Snowshoe Mountain, Pocahontas County, West Virginia.

Notice is hereby given that on February 24, 2003, after a 60-day public comment period as authorized by the provisions of the Act, the Service issued a permit (PRT-065121-0) to the above-named party subject to certain conditions set forth therein. The permit was granted only after the Service determined that it was applied for in good faith, that granting the permit will not be to the disadvantage of the threatened species, and that it will be consistent with the purpose and policy set forth in the Act, as amended.

Additional information on this permit action may be requested by contacting the West Virginia Field Office, 694 Beverly Pike, Elkins, West Virginia 26241, telephone number 304-636-6586, during normal business hours of 8 a.m. to 4:30 p.m.

No other Incidental Take Permits were issued in the Northeast Region in Fiscal Year 2003.

Dated: September 17, 2003.
Richard O. Bennett,
Acting Regional Director, Region 5.

[FR Doc. 03-24970 Filed 10-1-03; 8:45 am]

BILLING CODE 4310-55-P